DEPARTMENT OF TRANSPORTATION

Federal Aviation Administration

14 CFR Part 39

[Docket No. FAA-2025-0200; Project Identifier MCAI-2024-00627-T; Amendment 39-23114; AD 2025-17-04]

RIN 2120-AA64

Airworthiness Directives; Airbus SAS Airplanes

AGENCY: Federal Aviation Administration (FAA), DOT.

ACTION: Final rule.

SUMMARY: The FAA is adopting a new airworthiness directive (AD) for certain Airbus SAS Model A330-200, A330-200 Freighter, A330-300, A330-800, and A330-900 series airplanes. This AD was prompted by an incorrect shot peening application being implemented in production starting from 2008. This AD requires repetitive detailed inspections (DET) of certain splice fittings and, depending on findings, repair. The FAA is issuing this AD to address the unsafe condition on these products.

DATES: This AD is effective September 29, 2025.

The Director of the Federal Register approved the incorporation by reference of a certain publication listed in this AD as of September 29, 2025.

ADDRESSES:

AD Docket: You may examine the AD docket at regulations.gov under Docket No. FAA-2025-0200; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0200.

FOR FURTHER INFORMATION CONTACT: Stefanie Roesli, Aviation Safety Engineer, FAA, 2200 South 216th St., Des Moines, WA 98198; phone: 206-231-3964; email: stefanie.n.roesli@faa.gov.

SUPPLEMENTARY INFORMATION:

Background

The FAA issued a notice of proposed rulemaking (NPRM) to amend 14 CFR part 39 by adding an AD that would apply to certain Airbus SAS Model A330-200, A330-200 Freighter, A330-300, A330-800, and A330-900 series airplanes. The NPRM was published in the Federal Register on February 13, 2025 (90 FR 9520). The NPRM was prompted by AD 2024-0200, dated October 21, 2024, issued by EASA, which is the Technical Agent for the Member States of the European Union (EASA AD 2024-0200) (also referred to as the MCAI). The MCAI states that an incorrect shot peening application has been implemented in production starting from 2008. Fatigue life of affected parts (certain splice fittings) can consequently be lower than the certified value. This condition, if not detected and corrected, could adversely affect the structural integrity of the airplane.

In the NPRM, the FAA proposed to require repetitive DET of certain splice fittings and, depending on findings, repair, as specified in EASA AD 2024-0200. The FAA is issuing this AD to address the unsafe condition on these products.

You may examine the MCAI in the AD docket at regulations.gov under Docket No. FAA-2025-0200.

Discussion of Final Airworthiness Directive

Comments

The FAA received a comment from the Air Line Pilots Association, International (ALPA) who supported the NPRM without change.

The FAA received additional comments from two individual commenters. The following presents the comments received on the NPRM and the FAA's response to each comment.

Request To Allow Non-Destructive Testing (NDT)

Two individual commenters requested that the proposed AD be revised to allow NDT techniques, such as ultrasonic or eddy current inspections, rather than rely solely on detailed visual inspections. The commenters noted that NDT methods are widely used in aviation and can detect internal cracks that may not be visible, which reduces the risk of undetected structural failures and minimizes aircraft downtime.

The FAA disagrees with the commenters' requests. EASA, as the state of design authority for these airplanes, analyzed the data, considered the recommendations of the manufacturer, and determined that detailed inspections are adequate to address the unsafe condition. The FAA concurs with EASA's determination. The FAA has not changed this AD in response to this comment.

Request To Allow a Risk-Based Inspection Schedule

Two individual commenters suggested that a risk-based inspection schedule could optimize resources by allowing airplanes with fewer operational hours to undergo inspections at longer intervals. The commenters stated that this strategy is used in other airworthiness directives and would enhance the proposed rule's effectiveness without imposing an excessive burden on operators.

The FAA disagrees with the commenters' requests. EASA, as the state of design authority for these airplanes, performed a risk assessment and determined the compliance time was appropriate based on the safety implications of the identified unsafe condition, as well as the practical aspect of completing the required actions during regular maintenance periods. However, the FAA will consider requests for an alternative method of compliance (AMOC) as specified in paragraph (i)(1) of this AD if sufficient data are submitted to substantiate that a risk-based inspection schedule would provide an acceptable level of safety. The FAA has not changed this AD in response to this comment.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0200, which specifies procedures for repetitive DET of affected parts (splice fittings at the front windshield side post, on left-hand (LH) and right-hand (RH) sides, having part number (P/N) F531-23024-200 and P/N F531-23024-201, respectively) for cracking, and depending on findings, repairing cracking. This material is reasonably available because the interested parties have access to it through their normal course of business or by the means identified in the ADDRESSES section.

Costs of Compliance

The FAA estimates that this AD affects 58 airplanes of U.S. registry. The FAA estimates the following costs to comply with this AD:

Estimated Costs for Required Actions
Labor cost | Parts cost | Cost per product | Cost on U.S. operators
5 work-hours × $85 per hour = $425 | $0 | $425 | $24,650

The FAA has received no definitive data on which to base the cost estimates for the on-condition repairs specified in this AD.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-17-04 Airbus SAS: Amendment 39-23114; Docket No. FAA-2025-0200; Project Identifier MCAI-2024-00627-T.

(a) Effective Date

This airworthiness directive (AD) is effective September 29, 2025.

(b) Affected ADs

None.

(c) Applicability

This AD applies to Airbus SAS Airplanes identified in paragraph (c)(1) through (5) of this AD, certificated in any category, as identified in European Union Aviation Safety Agency (EASA) AD 2024-0200, dated October 21, 2024 (EASA AD 2024-0200).

(1) Model A330-201, -202, -203, -223, and -243 airplanes.

(2) Model A330-223F and -243F airplanes.

(3) Model A330-301, -302, -303, -321, -322, -323, -341, -342, and -343 airplanes.

(4) Model A330-841 airplanes.

(5) Model A330-941 airplanes.

(d) Subject

Air Transport Association (ATA) of America Code 53, Fuselage.

(e) Unsafe Condition

This AD was prompted by an incorrect shot peening application being implemented in production starting in 2008. The FAA is issuing this AD to address this condition, which if not detected and corrected, could adversely affect the structural integrity of the airplane.

(f) Compliance

Comply with this AD within the compliance times specified, unless already done.

(g) Requirements

Except as specified in paragraph (h) of this AD: Comply with all required actions and compliance times specified in, and in accordance with, EASA AD 2024-0200.

(h) Exceptions to EASA AD 2024-0200

(1) Where EASA AD 2024-0200 refers to its effective date, this AD requires using the effective date of this AD.

(2) Where paragraph (2) of EASA AD 2024-0200 specifies “if any crack is found on an affected part, before next flight, contact Airbus for repair instructions and, within the compliance time specified in those instructions, accomplish those instructions accordingly”, this AD requires replacing that text with “if any cracking is detected, the cracking must be repaired before further flight using a method approved by the Manager, AIR-520, Continued Operational Safety Branch, FAA; or EASA; or Airbus SAS's EASA Design Organization Approval (DOA). If approved by the DOA, the approval must include the DOA-authorized signature”.

(3) This AD does not adopt the “Remarks” section of EASA AD 2024-0200.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the Manager, AIR-520, Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Stefanie Roesli, Aviation Safety Engineer, FAA, 2200 South 216th St., Des Moines, WA 98198; phone: 206-231-3964; email: stefanie.n.roesli@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0200, dated October 21, 2024.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on August 19, 2025.
Lona C. Saccomando,
Acting Deputy Director, Integrated Certificate Management Division, Aircraft Certification Service.

[FR Doc. 2025-16212 Filed 8-22-25; 8:45 am]

BILLING CODE 4910-13-P